NATIONAL CREDIT UNION ADMINISTRATION

Agency Information Collection Activities: Submission to OMB for Review; Comment Request

AGENCY: National Credit Union Administration (NCUA).

ACTION: Request for comment.

SUMMARY: The NCUA is submitting the following new information collection to the Office of Management and Budget (OMB) for review and clearance under the Paperwork Reduction Act of 1995 (Pub. L. 104-13, 44 U.S.C. Chapter 35). This information collection is published to obtain comments from the public.

DATES: Comments will be accepted until July 11, 2001.

ADDRESSES: Interested parties are invited to submit written comments to NCUA Clearance Officer or OMB Reviewer listed below:

Clearance Officer: Mr. James L. Baylen,(703) 518-6411,National Credit Union Administration,1775 Duke Street,Alexandria, VA 22314-3428,Fax No. 703-518-6433,E-mail: jbaylen@ncua.gov.

OMB Reviewer: Alexander T. Hunt,(202) 395-7860,Office of Management and Budget,Room 10226, New Executive Office Building,Washington, DC 20503.

FOR FURTHER INFORMATION CONTACT: Copies of the information collection requests, with applicable supporting documentation, may be obtained by calling the: NCUA Clearance Officer, James L. Baylen, (703) 518-6411. It is also available on the following website: www.NCUA.gov.

SUPPLEMENTARY INFORMATION: Proposal for the following collection of information:

OMB Number: 3133-0024.

Form Number: N/A.

Type of Review: Reinstatement, with change, of a previously approved collection.

Title: 12 C.F.R. Part 708b—Mergers of Federally Insured Credit Unions.

Description: The rule sets forth merger procedures for federally insured credit unions.

Respondents: All credit unions.

Estimated No. of Respondents/Record keepers: 304.

Estimated Burden Hours Per Response: 15 hours.

Frequency of Response: Other. Information disclosures required are made on an on-going basis.

Estimated Total Annual Burden Hours: 4,560.

Estimated Total Annual Cost: $67,853.00.

By the National Credit Union Administration Board on June 5, 2001.
Becky Baker,
Secretary of the Board.

[FR Doc. 01-14652 Filed 6-8-01; 8:45 am]

BILLING CODE 7535-01-P